DEPARTMENT OF ENERGY

Federal Energy Regulatory Commission

18 CFR Part 11

[Docket No. RM11-6-000]

Annual Update to Fee Schedule for the Use of Government Lands by Hydropower Licensees; Correction

AGENCY: Federal Energy Regulatory Commission.

ACTION: Correcting amendment.

SUMMARY: This document contains corrections to the final rule (RM11-6-000) which published in the Federal Register on Wednesday, February 24, 2016 (81 FR 9090). The Final Rule provided the annual update to the fee schedule in Appendix A to Part 11, which lists per-acre rental fees by county (or other geographic area) for use of government lands by hydropower licensees and updated Appendix A to Part 11 with the fee schedule of per-acre rental fees by county (or other geographic area) from October 1, 2015, through September 30, 2016 (Fiscal Year 2016).

DATES: Effective March 8, 2016, and is applicable beginning February 24, 2016.

FOR FURTHER INFORMATION CONTACT: Norman Richardson, Financial Management Division, Office of the Executive Director, Federal Energy Regulatory Commission, 888 First Street NE., Washington, DC 20426, (202) 502-6219, Norman.Richardson@ferc.gov.

SUPPLEMENTARY INFORMATION: On February 18, 2016, the Commission issued an Annual Update to Fee Schedule for the Use of Government Lands for Hydropower Licensees in the above-captioned proceeding. Pursuant to Annual Charges for the Use of Government Lands, Order No. 774, 78 FR 5256 (January 25, 2013), FERC Stats. & Regs. ¶ 31,341 (2013) this document corrects the per-acre values for the State of Nevada, as reflected in the caption below.

List of Subjects in 18 CFR Part 11

Public lands.

Accordingly, 18 CFR part 11 is corrected by making the following correcting amendment:

PART 11—[AMENDED]

1. The authority citation for part 11 continues to read as follows:

Authority: 16 U.S.C. 792-828c; 42 U.S.C. 7101-7352.

2. Appendix A to Part 11 is amended by revising the entries under “Nevada” to read as follows:

Appendix A to Part 11—Fee Schedule for FY 2016

State | County | Fee/acre/yr
* * * * *
Nevada | Carson City | $51.65
| Churchill | 18.72
| Clark | 43.21
| Douglas | 22.21
| Elko | 3.81
| Esmeralda | 13.79
| Eureka | 4.98
| Humboldt | 7.63
| Lander | 5.72
| Lincoln | 22.38
| Lyon | 16.89
| Mineral | 3.30
| Nye | 16.47
| Pershing | 7.18
| Storey | 295.52
| Washoe | 6.27
| White Pine | 6.29
* * * * *

Issued: March 2, 2016.
Nathaniel J. Davis, Sr.,
Deputy Secretary.

[FR Doc. 2016-05100 Filed 3-7-16; 8:45 am]

BILLING CODE 6717-01-P